SECURITIES AND EXCHANGE COMMISSION

Submission for OMB Review; Comment Request

Upon Written Request, Copies Available From: Securities and Exchange Commission, Office of Investor Education and Advocacy, Washington, DC 20549-0213.

Extension:

Rule 17a-25; OMB Control No. 3235-0540; SEC File No. 270-482.

Notice is hereby given that pursuant to the Paperwork Reduction Act of 1995 (44 U.S.C. 3501 et seq.), the Securities and Exchange Commission (“Commission”) has submitted to the Office of Management and Budget (“OMB”) a request for approval of extension of the existing collection of information provided for in the following rule: Rule 17a-25 (17 CFR 240.17a-25) under the Securities Exchange Act of 1934 (15 U.S.C. 78a et seq.) (“Exchange Act”).

Paragraph (a)(1) of Rule 17a-25 requires registered broker-dealers to electronically submit securities transaction information, including identifiers for prime brokerage arrangements, average price accounts, and depository institutions, in a standardized format when requested by the Commission staff. In addition, Paragraph (a)(3)(c) of Rule 17a-25 requires broker-dealers to submit, and keep current, contact person information for electronic blue sheets (“EBS”) requests. The Commission uses the information for enforcement inquiries or investigations and trading reconstructions, as well as for inspections and examinations.

The Commission estimates that it sends approximately 5168 electronic blue sheet requests per year to clearing broker-dealers, who in turn submit an average 79,992 responses.¹ It is estimated that each broker-dealer who responds electronically will take 8 minutes, and each broker-dealer who responds manually will take 1½ hours to prepare and submit the securities trading data requested by the Commission. The annual aggregate hour burden for electronic and manual response firms is estimated to be 10,786 (79,992 x 8 ÷ 60 = 10,666 hours) + (80 x 1.5 = 120 hours), respectively.² In addition, the Commission estimates that it will request 500 broker-dealers to supply the contact information identified in Rule 17a-25(c) and estimates the total aggregate burden hours to be 125. Thus, the annual aggregate burden for all respondents to the collection of information requirements of Rule 17a-25 is estimated at 10,911 hours (10,786 + 125).

¹ A single EBS request has a unique number assigned to each request (e.g. “0900001”). However, the number of broker-dealer responses generated from one EBS request can range from one to several hundred. EBS requests are sent directly to clearing firms, as the clearing firm is the repository for trading data for securities transactions information provided by itself and correspondent firms. Clearing brokers respond for themselves and other firms they clear for.

² Few respondents submit manual EBS responses. The small percentage of respondents that submit manual responses do so by hand, via e-mail, spreadsheet, disk, or other electronic media. Thus, the number of manual submissions (80) has minimal effect on the total annual burden hours.

An agency may not conduct or sponsor, and a person is not required to respond to, a collection of information unless it displays a currently valid control number.

Comments should be directed to: (i) Desk Officer for the Securities and Exchange Commission Office of Information and Regulatory Affairs, Office of Management and Budget, Room 10102, New Executive Office Building, Washington, DC 20503 or by sending an e-mail to: Shagufta_Ahmed@comb.eop.gov; and (ii) Charles Boucher, Director/Chief Information Officer, Securities and Exchange Commission, c/o Shirley Martinson, 6432 General Green Way, Alexandria, Virginia 22312 or send an e-mail to PRA_Mailbox@sec.gov. Comments must be submitted to OMB within 30 days of this notice.

November 30, 2009.
Florence E. Harmon,
Deputy Secretary.

[FR Doc. E9-29044 Filed 12-4-09; 8:45 am]

BILLING CODE 8011-01-P